DEPARTMENT OF THE INTERIOR

National Park Service

Kaloko-Honokohau National Historical Park Advisory Commission; Notice of Meeting

Notice is hereby given in accordance with the Federal Advisory Committee Act that a meeting of the Na Hoapili O Kaloko Honokohau, Kaloko-Honokohau National Historical Park Advisory Commission, will be held at 9:00 a.m. on January 26, 2001, at the King Kamehameha's Kona Beach Hotel, Kulana Huli Honua Room, Kailua-Kona, Hawaii. The agenda will include the following: Committee Assignments and Workplans for 2001, Update on General Management Plan, Visitor Facilities, Park Interpretive and Resource Management Programs.

This meeting is open to the public. It will be recorded for documentation and transcribed for dissemination. Minutes of the meeting will be available to the public after approval of the full Advisory Commission. A transcript will be available after February 31, 2001. For copies of the minutes, contact Kaloko-Honokohau National Historical Park at (808) 329-6881.

Dated: December 7, 2000.
Geraldine K. Bell,
Superintendent, Kaloko-Honokohau National Historical Park.

[FR Doc. 00-32438 Filed 12-20-00; 8:45 am]

BILLING CODE 4310-70-M